DEPARTMENT OF THE INTERIOR

Bureau of Indian Affairs

[167 A2100DD/AAKC001030/A0A501010.999900]

Indian Gaming; Approval of Amendment to Tribal-State Class III Gaming Compact in the State of Wyoming

AGENCY: Bureau of Indian Affairs, Interior.

ACTION: Notice.

SUMMARY: The Eastern Shoshone Tribe of the Wind River Reservation and State of Wyoming entered into a compact replacing and superseding an existing Tribal-State compact governing Class III gaming. This notice announces approval of the new compact.

DATES: Effective August 22, 2016.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. In addition to various miscellaneous changes, the term of the compact runs until April 19, 2046. The compact is approved. See 25 U.S.C. 2710(d)(8)(A).

Dated: August 12, 2016.
Lawrence S. Roberts,
Principal Deputy Assistant Secretary—Indian Affairs.

[FR Doc. 2016-19877 Filed 8-19-16; 8:45 am]

BILLING CODE 4337-15-P